DEPARTMENT OF COMMERCE

National Oceanic and Atmospheric Administration

[I.D. 030101C]

North Pacific Fishery Management Council; Public Meeting

AGENCY: National Marine Fisheries Service (NMFS), National Oceanic and Atmospheric Administration (NOAA), Commerce.

ACTION: Notice of committee meeting.

SUMMARY: The North Pacific Fishery Management Council’s (Council) committee formed to study reasonable and prudent alternatives (RPAs) for Steller sea lion protection in Alaska fisheries will meet.

DATES: The meeting will begin at 8 a.m. on Monday, March 26, and will continue through Wednesday, March 28.

ADDRESSES: The meeting will be held at the Hilton Hotel, in the Denali Room, 500 W. 3rd Avenue, Anchorage, AK 99501.

Council address: North Pacific Fishery Management Council, 605 W. 4th Ave., Suite 306, Anchorage, AK 99501-2252.

FOR FURTHER INFORMATION CONTACT: David Witherell, North Pacific Fishery Management Council; telephone: 907-271-2809.

SUPPLEMENTARY INFORMATION: The committee will discuss recommendations for open and closure areas for the groundfish fisheries for the second half of 2001, and continue development of RPA alternatives for 2002 and beyond.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Helen Allen, 907-271-2809, at least 5 working days prior to the meeting date.

Dated: March 5, 2001.
Richard W. Surdi,
Acting Director, Office of Sustainable Fisheries, National Marine Fisheries Service.

[FR Doc. 01-5869 Filed 3-8-01; 8:45 am]

BILLING CODE 3510-22-S